DEPARTMENT OF HEALTH AND HUMAN SERVICES

Administration for Children and Families

Proposed Information Collection Activity; Comment Request

Title: Health Profession Opportunity Grants (HPOG) program.

Omb No.: 0970-0394.

Description: The Administration for Children and Families (ACF), U.S. Department of Health and Human Services (HHS) is proposing data collection activities as part of the Health Profession Opportunity Grants (HPOG) program. ACF has developed a multi-pronged research and evaluation approach for the HPOG program to better understand and assess the activities conducted and their results. The proposed data collection activities described in this notice will provide data for two evaluation components, the National Implementation Evaluation of the Health Profession Opportunity Grants to Serve TANF Recipients and Other Low-Income Individuals (HPOG-NIE) and the Impact Studies of the Health Profession Opportunity Grants (HPOG-Impact).

Two data collection efforts related to HPOG research were approved by OMB, including approval of a Performance Reporting System (PRS) (approved September 2011) and for collection of additional baseline data for the HPOG-Impact study (approved October 2012). These collection activities will continue under this new request.

This 30-day notice describes the remaining data collection efforts for both HPOG-NIE and HPOG-Impact. Information collection described under 1 through 13 are included in the current OMB submission for review. Information collections 14 through 18 will be submitted in a future information collection clearance request.

The goal of HPOG-NIE is to describe and assess the implementation, systems change, and outcomes and other important information about the operations of the 27 HPOG grantees focused on TANF recipients and other low-income individuals. To achieve these goals, it is necessary to collect data about the HPOG program designs and implementation, HPOG partner and program networks and indicators of systems change, employers' perceptions of HPOG programs, the composition and intensity of HPOG services received, participant characteristics and HPOG experiences, and participant outputs and outcomes.

The goal of HPOG-Impact is to evaluate the effectiveness of approaches used by 20 of the HPOG grantees to provide TANF recipients and other low-income individuals with opportunities for education, training and advancement within the health care field. HPOG-Impact also is intended to evaluate variation in participant impact that may be attributable to different HPOG program components and models. The impact study design is a classic experiment in which eligible applicants will be randomly assigned to a treatment group that is offered participation in HPOG and a control group that is not permitted to enroll in HPOG. In approximately 13 sites, eligible applicants will be randomized into two treatment arms (a basic and an enhanced version of the intervention) and a control group. Data collected from the HPOG participants served by these 20 grantees will also be used for the HPOG-NIE study.

The new information collection activities proposed for HPOG-NIE and HPOG-Impact include: (1) The HPOG-NIE sampling questionnaire; (2) The HPOG-NIE follow-up phone protocol for the stakeholder/network survey; (3) The HPOG-NIE grantee survey; (4) The HPOG-Impact implementation interview guide for partnering employers; (5) The HPOG-Impact implementation interview guide for instructors; (6) The HPOG-Impact implementation interview guide for HPOG program management; (7) The HPOG-Impact implementation interview guide for HPOG program staff; (8) The HPOG-NIE management and staff survey; (9) The HPOG-NIE stakeholder/network survey; (10) The HPOG-NIE employer survey; (11) The HPOG-Impact 15-month participant follow-up survey; (12) The HPOG-Impact 15-month control group member follow-up survey; and (13) The HPOG-NIE 15-month participant follow-up survey.

Data collection activities to submit in a future information collection request include: (14) the HPOG-NIE follow-up stakeholder/network survey; (15) the HPOG-Impact second follow-up survey of both treatment and control group members; (16) the HPOG-NIE second supplemental participant follow-up survey; (17) HPOG-Impact follow-up data collection on children of HPOG-Impact study participants; and (18) the HPOG-NIE in-person interviews with HPOG managers and staff.

Respondents: Individuals enrolled in HPOG interventions; control group members; HPOG program managers; HPOG program staff, including instructors and case managers; representatives of partner agencies and stakeholders, including support service providers, education and vocational training providers, Workforce Investment Boards, TANF agencies, and local health care employers.

Annual Response Burden Estimates
[This information collection request is for a two-year period.]
Instrument | Total number of respondents | No. of responses per respondent | Average burden hours per response | Total burden hours | Annual burden hours
Previously Approved Instruments
PRS | 32 | 4 | 31.2 | 3,994 | 1,997
HPOG-Impact Baseline Survey(s) (Supplemental baseline questions; study sample members) | 10,500 | 1 | 0.25 | 2,625 | 1,313
HPOG-Impact Baseline Survey(s) (Supplemental baseline questions; grantees) | 20 | 525 | 0.25 | 2,625 | 1,313
Current Request for Approval
HPOG-NIE Sampling Questionnaire for the HPOG surveys | 54 | 1 | 2 | 108 | 54
HPOG-NIE Follow-Up Phone Call Protocol for the Stakholder/Network survey | 162 | 1 | 0.17 | 28 | 14
HPOG-NIE Grantee survey | 54 | 1 | 4 | 216 | 108
HPOG-Impact Implementation interview guide for partnering employers | 60 | 1 | 0.50 | 30 | 15
HPOG-Impact Implementation interview guide for instructors | 60 | 1 | 0.75 | 45 | 22
HPOG-Impact Implementation interview guide for HPOG program mangement | 20 | 1 | 1.50 | 30 | 15
HPOG-Impact Implementation interview guide for HPOG program staff | 80 | 1 | 1 | 80 | 40
HPOG-NIE Management and Staff survey | 540 | 1 | 0.5 | 270 | 135
HPOG-NIE Stakeholder/Network survey | 500 | 1 | 0.5 | 250 | 125
HPOG-NIE Employer survey | 200 | 1 | 0.5 | 100 | 50
HPOG-Impact 15-month Participant Follow-Up survey | 5,600 | 1 | 0.7 | 3,920 | 1,960
HPOG-Impact 15-month Control Group Member Follow-Up survey | 2,800 | 1 | 0.6 | 1,680 | 840
HPOG-NIE 15-month Participant Follow-Up survey | 600 | 1 | 0.7 | 420 | 210
Estimated Annual Response Burden Hours: 8,211.

Additional Information: Copies of the proposed collection may be obtained by writing to the Administration for Children and Families, Office of Planning, Research and Evaluation, 370 L'Enfant Promenade, SW., Washington, DC 20447, Attn: OPRE Reports Clearance Officer. All requests should be identified by the title of the information collection. Email address: OPREinfocollection@acf.hhs.gov.

OMB Comment: OMB is required to make a decision concerning the collection of the information between 30 and 60 days after publication of this document in the Federal Register. Therefore, a comment is best assured of having its full effect if OMB receives it within 30 days of publication. Written comments and recommendations for the proposed information collections should be sent directly to the following: Office of Management and Budget, Paperwork Reduction Project, Email: OIRA_ OIRA_SUBMISSION@OMB.EOP.GOV, Attn: Desk Officer for the Administration for Children and Families.

Steven M. Hanmer,
OPRE Reports Clearance Officer.

[FR Doc. 2013-10577 Filed 5-3-13; 8:45 am]

BILLING CODE 4184-09-M